DEPARTMENT OF ENERGY

Federal Energy Regulatory Commission

Combined Notice of Filings #1

May 7, 2008.

Take notice that the Commission received the following electric corporate filings:

Docket Numbers: EC08-78-000.

Applicants: Duke Energy Ohio, Inc., Cinergy Corp., Cinergy Power Investments, Inc., Generating Facility LLCs.

Description: Amendment to Application and Request for Extended Notice Period for Comments of Cinergy Corp., et.al.

Filed Date: 05/06/2008.

Accession Number: 20080506-5107.

Comment Date: 5 p.m. Eastern Time on Tuesday, May 27, 2008.

Docket Numbers: EC08-85-000.

Applicants: Mountain View Power Partners, LLC; AES Western Wind MV Acquisition, LLC.

Description: Application for Authorization for Disposition of Jurisdictional Facilities, Request for Confidential Treatment, and Request for Expedited Action of Mountain View Power Partners, LLC, et. al.

Filed Date: 05/05/2008.

Accession Number: 20080506-5007.

Comment Date: 5 p.m. Eastern Time on Monday, May 26, 2008.

Take notice that the Commission received the following exempt wholesale generator filings:

Docket Numbers: EG08-70-000.

Applicants: Consolidated Edison Energy Massachusetts, LLC.

Description: Consolidated Edison Energy Massachusetts, LLC submits a Notice of Name Change and Application for Redetermination of Status as an Exempt Wholesale Generator.

Filed Date: 05/01/2008.

Accession Number: 20080505-0138.

Comment Date: 5 p.m. Eastern Time on Thursday, May 22, 2008.

Take notice that the Commission received the following electric rate filings:

Docket Numbers: ER93-465-043; ER96-417-012; ER96-1375-013; OA96-39-020; OA97-245-013.

Applicants: Florida Power & Light Company.

Description: Refund Report Errata of Florida Power & Light Company.

Filed Date: 05/02/2008.

Accession Number: 20080506-5032.

Comment Date: 5 p.m. Eastern Time on Friday, May 23, 2008.

Docket Numbers: ER97-2801-022.

Applicants: PacifiCorp.

Description: PacifiCorp submits a revised Sheet to its market-based rate tariff currently on file with FERC.

Filed Date: 05/02/2008.

Accession Number: 20080506-0229.

Comment Date: 5 p.m. Eastern Time on Friday, May 23, 2008.

Docket Numbers: ER07-1215-003; ER07-265-001; ER08-100-001.

Applicants: The Royal Bank of Scotland plc; Sempra Energy Solutions LLC; Sempra Energy Trading LLC.

Description: Sempra Energy Trading LLC et al. submits a notice of non-material change in status and compliance filing.

Filed Date: 05/01/2008.

Accession Number: 20080506-0083.

Comment Date: 5 p.m. Eastern Time on Thursday, May 22, 2008.

Docket Numbers: ER08-5-001.

Applicants: Ohio Valley Electric Corporation.

Description: Ohio Valley Electric Corp submits an executed Interconnection Agreement with U.S. Department of Energy.

Filed Date: 05/01/2008.

Accession Number: 20080506-0086.

Comment Date: 5 p.m. Eastern Time on Thursday, May 22, 2008.

Docket Numbers: ER08-569-001.

Applicants: PJM Interconnection, L.L.C.

Description: PJM Interconnection, LLC responds to FERC's request for additional information re its 5/15/08 deficient filing.

Filed Date: 05/01/2008.

Accession Number: 20080506-0085.

Comment Date: 5 p.m. Eastern Time on Thursday, May 22, 2008.

Docket Numbers: ER08-638-001.

Applicants: Crafton LLC.

Description: Crafton LLC submits Amended Petition for Acceptance of Initial Tariff, Waivers and Blanket Authority.

Filed Date: 03/31/2008.

Accession Number: 20080401-0073.

Comment Date: 5 p.m. Eastern Time on Wednesday, May 14, 2008.

Docket Numbers: ER08-671-001.

Applicants: Florida Power Corporation.

Description: Florida Power Corp submits correction filing for Gainesville service agreement under cost-based rates tariff CR-1.

Filed Date: 05/02/2008.

Accession Number: 20080506-0084.

Comment Date: 5 p.m. Eastern Time on Friday, May 23, 2008.

Docket Numbers: ER08-747-001.

Applicants: Beaver Ridge Wind, LLC.

Description: Beaver Ridge Wind, LLC submits an amendment to the Petition for Acceptance of Initial Rate Schedule, Waivers and Blanket Authority.

Filed Date: 05/05/2008.

Accession Number: 20080507-0212.

Comment Date: 5 p.m. Eastern Time on Tuesday, May 27, 2008.

Docket Numbers: ER08-884-000.

Applicants: Midwest Independent Transmission System Operator, Inc.

Description: Midwest Independent Transmission System Operator, Inc et al. submits proposed revisions to the Congestion Management Process.

Filed Date: 05/02/2008.

Accession Number: 20080506-0082.

Comment Date: 5 p.m. Eastern Time on Friday, May 23, 2008.

Docket Numbers: ER08-885-000.

Applicants: Entergy Gulf States Louisiana, L.L.C.

Description: Entergy Gulf States Louisiana LLC submits Attachment A Notice of Termination.

Filed Date: 04/30/2008.

Accession Number: 20080502-0116.

Comment Date: 5 p.m. Eastern Time on Wednesday, May 21, 2008.

Docket Numbers: ER08-886-000.

Applicants: The Detroit Edison Company.

Description: The Detroit Edison Co submits copies of the Third Revised Sheets 26, 33 and 36 of the Ancillary Services Tariff.

Filed Date: 04/30/2008.

Accession Number: 20080502-0128.

Comment Date: 5 p.m. Eastern Time on Wednesday, May 21, 2008.

Docket Numbers: ER08-887-000.

Applicants: Interstate Power & Light Company.

Description: Interstate Power and Light Company submits proposed revisions to their RES-5 Wholesale Formula Rates.

Filed Date: 04/30/2008.

Accession Number: 20080502-0120.

Comment Date: 5 p.m. Eastern Time on Wednesday, May 21, 2008.

Docket Numbers: ER08-888-000.

Applicants: Carolina Power & Light Company.

Description: Progress Energy Carolinas Inc submits amendments to the North Carolina Eastern Municipal Power Agency's Network Integration Transmission Service Agreement & a Notice of Cancellation, etc.

Filed Date: 04/30/2008.

Accession Number: 20080502-0119.

Comment Date: 5 p.m. Eastern Time on Wednesday, May 21, 2008.

Docket Numbers: ER08-889-000.

Applicants: Carolina Power & Light Company.

Description: Carolina Power and Light Co submits revised tariff sheets for the transmission rates under its Open Access Transmission Tariff.

Filed Date: 04/30/2008.

Accession Number: 20080505-0128.

Comment Date: 5 p.m. Eastern Time on Wednesday, May 21, 2008.

Docket Numbers: ER08-890-000.

Applicants: Louisiana Generating, LLC.

Description: Louisiana Generating LLC submits a Balancing Authority Area Agreement, Rate Schedule FERC 6 with Cottonwood Energy Company LP.

Filed Date: 04/30/2008.

Accession Number: 20080505-0122.

Comment Date: 5 p.m. Eastern Time on Wednesday, May 21, 2008.

Docket Numbers: ER08-891-000.

Applicants: Wisconsin Power and Light Company.

Description: Alliant Energy Corporate Services, Inc on behalf of Wisconsin Power and Light Co submits a Wholesale Power Agreement.

Filed Date: 04/30/2008.

Accession Number: 20080505-0119.

Comment Date: 5 p.m. Eastern Time on Wednesday, May 21, 2008.

Docket Numbers: ER08-892-000.

Applicants: Allegheny Energy Supply Company, LLC.

Description: Allegheny Energy Supply Co, LLC submits notices of cancellation and notices of termination.

Filed Date: 04/30/2008.

Accession Number: 20080505-0118.

Comment Date: 5 p.m. Eastern Time on Wednesday, May 21, 2008.

Docket Numbers: ER08-893-000.

Applicants: American Electric Power Service Corporation.

Description: American Electric Power Service Corp. submits an Interconnection Agreement with Indianapolis Power & Light Co.

Filed Date: 04/30/2008.

Accession Number: 20080505-0117.

Comment Date: 5 p.m. Eastern Time on Wednesday, May 21, 2008.

Docket Numbers: ER08-894-000.

Applicants: Entergy Services, Inc.

Description: Entergy Services, Inc submits mutually-executed Dynamic Transfer Operating Agreements.

Filed Date: 04/30/2008.

Accession Number: 20080505-0116.

Comment Date: 5 p.m. Eastern Time on Wednesday, May 21, 2008.

Docket Numbers: ER08-895-000.

Applicants: Consolidated Edison Company of New York.

Description: Consolidated Edison Company of New York, Inc submits a Construction and Operating Agreement with New Athens Generating Company, LLC dated as of 7/9/07.

Filed Date: 05/01/2008.

Accession Number: 20080505-0087.

Comment Date: 5 p.m. Eastern Time on Thursday, May 22, 2008.

Docket Numbers: ER08-896-000.

Applicants: Northeast Utilities Service Company.

Description: Northeast Utilities Service Co submits amendments to its new Localized Costs Responsibility Agreements.

Filed Date: 05/01/2008.

Accession Number: 20080505-0085.

Comment Date: 5 p.m. Eastern Time on Thursday, May 22, 2008.

Docket Numbers: ER08-898-000.

Applicants: Southern California Edison Company.

Description: Southern California Edison Company submits the Large Generator Interconnection Agreement among the Blythe Energy, LL, SCE, and the California Independent System Operator Corporation.

Filed Date: 05/01/2008.

Accession Number: 20080505-0076.

Comment Date: 5 p.m. Eastern Time on Thursday, May 22, 2008.

Docket Numbers: ER08-899-000.

Applicants: Ohio Power Company.

Description: Ohio Power Company submits a Cost-Based Formula Rate Agreement for Full Requirements Electric Service dated 4/30/08 with the American Electric Power Company.

Filed Date: 05/01/2008.

Accession Number: 20080505-0077.

Comment Date: 5 p.m. Eastern Time on Thursday, May 22, 2008.

Docket Numbers: ER08-901-000.

Applicants: Saracen Energy Partners, LP.

Description: Saracen Energy Partners, LP submits its Petition for Acceptance of Initial Rate Schedule, Waivers and Blanket Authorization of FERC Rate Schedule 1.

Filed Date: 05/01/2008.

Accession Number: 20080505-0080.

Comment Date: 5 p.m. Eastern Time on Thursday, May 22, 2008.

Docket Numbers: ER08-902-000.

Applicants: Vermont Electric Cooperative, Inc.

Description: Vermont Electric Coop, Inc.'s 2008 Transmission Formula Rate Update to charges produced by the formula rates applicable to the VEC-specified Local Service Schedules of the ISO New England Open Access Transmission Tariff, etc.

Filed Date: 05/01/2008.

Accession Number: 20080505-0081.

Comment Date: 5 p.m. Eastern Time on Thursday, May 22, 2008.

Docket Numbers: ER08-903-000.

Applicants: Southwest Power Pool, Inc.

Description: Southwest Power Pool, Inc submits an executed Service Agreement for Network Integration Transmission Service with Empire District Electric Co.

Filed Date: 05/01/2008.

Accession Number: 20080505-0082.

Comment Date: 5 p.m. Eastern Time on Thursday, May 22, 2008.

Docket Numbers: ER08-904-000.

Applicants: Southwest Power Pool, Inc.

Description: Southwest Power Pool, Inc submits an executed Service Agreement for Network Integration Transmission Service with Kansas Electric Power Coop, Inc.

Filed Date: 05/01/2008.

Accession Number: 20080505-0083.

Comment Date: 5 p.m. Eastern Time on Thursday, May 22, 2008.

Docket Numbers: ER08-905-000.

Applicants: Southwest Power Pool, Inc.

Description: Southwest Power Pool, Inc submits an executed Service Agreement for Network Integration Transmission Service with Western Farmers Electric Cooperative, Inc.

Filed Date: 05/01/2008.

Accession Number: 20080505-0084.

Comment Date: 5 p.m. Eastern Time on Thursday, May 22, 2008.

Docket Numbers: ER08-906-000.

Applicants: Southern California Edison Company.

Description: Southern California Edison submits Fifth Revised Sheet 54, et al. to Rate Schedule FERC 424.

Filed Date: 05/01/2008.

Accession Number: 20080505-0120.

Comment Date: 5 p.m. Eastern Time on Thursday, May 22, 2008.

Docket Numbers: ER08-907-000.

Applicants: Unitil Power Corp.

Description: Unitil Power Corp. submits an Amended Unitil System Agreement.

Filed Date: 05/01/2008.

Accession Number: 20080505-0121.

Comment Date: 5 p.m. Eastern Time on Thursday, May 22, 2008.

Docket Numbers: ER08-908-000.

Applicants: Florida Power Corporation.

Description: Progress Energy Florida Inc's CD containing their annual cost factor updates.

Filed Date: 05/02/2008.

Accession Number: 20080502-4003.

Comment Date: 5 p.m. Eastern Time on Friday, May 23, 2008.

Docket Numbers: ER08-913-000.

Applicants: Midwest Independent Transmission System Operator, Inc.

Description: Midwest Independent Transmission System Operator, Inc., et al. submits proposed revisions to Section 4.1 and 4.4 of the Congestion Management Process of their Joint Operating Agreement, etc.

Filed Date: 05/02/2008.

Accession Number: 20080506-0076.

Comment Date: 5 p.m. Eastern Time on Friday, May 23, 2008.

Docket Numbers: ER08-914-000.

Applicants: Walnut Creek Energy, LLC.

Description: Petition of Walnut Creek Energy, LLC for authorization for affiliate sales of electric energy.

Filed Date: 05/02/2008.

Accession Number: 20080506-0075.

Comment Date: 5 p.m. Eastern Time on Friday, May 23, 2008.

Docket Numbers: ER08-922-000.

Applicants: Warren Power, LLC.

Description: Warren Power, LLC submits a notice of cancellation of FERC Electric Tariff, Original Volume 1, etc.

Filed Date: 05/06/2008.

Accession Number: 20080507-0221.

Comment Date: 5 p.m. Eastern Time on Tuesday, May 27, 2008.

Take notice that the Commission received the following electric securities filings:

Docket Numbers: ES08-49-000.

Applicants: Entergy Power, Inc.

Description: Entergy Power, Inc. submits its Application for Authorization to Issue Securities Pursuant to Section 204 Federal Power Act and Part 34 of the Commission's Regulations.

Filed Date: 05/02/2008.

Accession Number: 20080502-5026.

Comment Date: 5 p.m. Eastern Time on Friday, May 23, 2008.

Take notice that the Commission received the following open access transmission tariff filings:

Docket Numbers: OA07-40-003.

Applicants: Portland General Electric Company.

Description: Amendment to Application of Portland General Electric Company to correct effective dates on three tariff sheets.

Filed Date: 05/02/2008.

Accession Number: 20080502-5126.

Comment Date: 5 p.m. Eastern Time on Friday, May 23, 2008.

Docket Numbers: OA07-55-001.

Applicants: Black Hills Power, Inc.; Powder River Energy Corp; Basin Electric Power Cooperative, Inc.

Description: Order No. 890 OATT Compliance Filing of Black Hills Power, Inc., et al.

Filed Date: 05/05/2008.

Accession Number: 20080506-5029.

Comment Date: 5 p.m. Eastern Time on Monday, May 26, 2008.

Docket Numbers: OA07-56-002.

Applicants: MidAmerican Energy Company.

Description: MidAmerican Energy Company submits revised and original tariff sheets in compliance with the Order No. 890 requirements dated April 3, 2008.

Filed Date: 05/05/2008.

Accession Number: 20080506-5025.

Comment Date: 5 p.m. Eastern Time on Monday, May 26, 2008.

Docket Numbers: OA07-85-001.

Applicants: Ohio Valley Electric Corporation.

Description: Order No. 890 OATT Attachment C Compliance Filing of Ohio Valley Electric Corporation.

Filed Date: 05/02/2008.

Accession Number: 20080502-5057.

Comment Date: 5 p.m. Eastern Time on Friday, May 23, 2008.

Docket Numbers: OA07-89-001.

Applicants: Florida Power & Light Company.

Description: Florida Power & Light Co submits its compliance filing on Attachment C to its Open Access Transmission Tariff under OA07-89.

Filed Date: 05/05/2008.

Accession Number: 20080507-0211.

Comment Date: 5 p.m. Eastern Time on Tuesday, May 27, 2008.

Docket Numbers: OA07-92-001.

Applicants: Southern Company Services, Inc.

Description: Order No. 890 OATT Filing of Southern Company Services, Inc., Attachment C Request for Waiver.

Filed Date: 05/01/2008.

Accession Number: 20080501-5200.

Comment Date: 5 p.m. Eastern Time on Thursday, May 22, 2008.

Docket Numbers: OA07-96-001.

Applicants: Idaho Power Company.

Description: Order No. 890 OATT Attachment C Filing of Idaho Power Company.

Filed Date: 05/01/2008.

Accession Number: 20080501-5067.

Comment Date: 5 p.m. Eastern Time on Thursday, May 22, 2008.

Docket Numbers: OA08-114-000.

Applicants: PJM Interconnection, LLC.

Description: PJM Interconnection, LLC submits a notification filing pursuant to Order 890 and PJM Tariff Section 19.8.

Filed Date: 04/30/2008.

Accession Number: 20080505-0210.

Comment Date: 5 p.m. Eastern Time on Wednesday, May 21, 2008.

Docket Numbers: OA08-115-000.

Applicants: Midwest Independent Transmission System Operator, Inc.

Description: Midwest Independent Transmission System Operator, Inc submits a notification filing pursuant to Order 890 and 890-A.

Filed Date: 04/30/2008.

Accession Number: 20080505-0211.

Comment Date: 5 p.m. Eastern Time on Wednesday, May 21, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-10834 Filed 5-14-08; 8:45 am]

BILLING CODE 6717-01-P